DEPARTMENT OF HEALTH AND HUMAN SERVICES

Administration for Children and Families

[Office of Management and Budget #: 0970-0174]

Submission for Office of Management and Budget Review; Native Employment Works (NEW) Plan Guidance and NEW Program Report

AGENCY: Division of Tribal Temporary Assistance for Needy Families Management, Office of Family Assistance, Administration for Children and Families, U.S. Department of Health and Human Services.

ACTION: Request for Public Comment.

SUMMARY: The Administration for Children and Families (ACF) is requesting a 3-year extension of the Native Employment Works (NEW) Plan Guidance and NEW Program Report (Office of Management and Budget (OMB) #0970-0174, expiration August 31, 2025). There are minor changes requested to the NEW Plan Guidance.

DATES: Comments due August 18, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The NEW Program Plan Guidance documents specify the information needed to complete a NEW program plan and explains the process for plan submission every third year and to complete the annual program report. The program plan is the application for NEW program funding and documents how the grantee will carry out its NEW program.

The only proposed changes are the date of submission and the requirement that the plan be submitted electronically via the Online Data Collection system. The program report provides the U.S. Department of Health and Human Services, Congress, and grantees information to document and assess the activities and accomplishments of the NEW program. ACF proposes to extend the program report without changes.

Respondents: Indian tribes and tribal coalitions that operate NEW programs.

Annual Burden Estimates
Instrument | Total number of respondents (over 3 yrs.) | Annual number of responses per respondent | Average burden hours per response | Annual burden hours
NEW Program Plan Guidance | 37 | ¹ .333 | 29 | 357
NEW Program Report | 37 | 1 | 15 | 555
Total Estimated Annual Burden | 912
¹ We have used .333 responses per year to represent one submission of the NEW Program Plan Guidance during the three-year approval period.

Authority: 42 U.S.C. 612.

Mary C. Jones,
ACF/OPRE Certifying Officer.

[FR Doc. 2025-13438 Filed 7-16-25; 8:45 am]

BILLING CODE 4184-36-P